DEPARTMENT OF HOMELAND SECURITY

U.S. Customs and Border Protection

Accreditation and Approval of Intertek USA, Inc. (Marion, AR) as a Commercial Gauger and Laboratory

AGENCY: U.S. Customs and Border Protection, Department of Homeland Security.

ACTION: Notice of accreditation and approval of Intertek USA, Inc. (Marion, AR), as a commercial gauger and laboratory.

SUMMARY: Notice is hereby given, pursuant to CBP regulations, that Intertek USA, Inc. (Marion, AR) has been approved to gauge petroleum and certain petroleum products and accredited to test petroleum and certain petroleum products for customs purposes for the next four years as of June 15, 2020.

DATES: Intertek USA, Inc. (Marion, AR) was approved and accredited as a commercial gauger and laboratory as of June 15, 2020. The next inspection date will be scheduled for June 2024.

FOR FURTHER INFORMATION CONTACT: Dr. Eugene Bondoc, Laboratories and Scientific Services, U.S. Customs and Border Protection, 1300 Pennsylvania Avenue NW, Suite 1500N, Washington, DC 20229, tel. 202-344-3974.

SUPPLEMENTARY INFORMATION: Notice is hereby given pursuant to 19 CFR 151.12 and 19 CFR 151.13, that Intertek USA, Inc., 4398 Highway 77N, Marion, AR 72364, has been approved to gauge petroleum and certain petroleum products and accredited to test petroleum and certain petroleum products for customs purposes, in accordance with the provisions of 19 CFR 151.12 and 19 CFR 151.13 as of June 15, 2020.¹

¹ As a result of the SARS-CoV-2 (COVID-19) pandemic, Laboratories and Scientific Services implemented a one-time quadrennial timeframe for reoccurring audits originally scheduled to take place in 2020, 2021, and 2022. This postponed the scheduled deadline for audits and the payment of reaccreditation or reapproval fees by one year, after which audits will return to a triennial schedule. See 19 U.S.C. 1499; Presidential Proclamation 9994, 85 FR 15337 (March 13, 2020); Executive Order 13924, 85 FR 31353 (May 19, 2020); and U.S. Customs & Border Protection, COVID-19 Laboratory and Gauger Postponement Letter (May 26, 2021), https://www.cbp.gov/document/guidance/covid-19-gauger-postponement-letter.

Intertek USA, Inc. (Marion, AR) is approved for the following gauging procedures for petroleum and certain petroleum products from the American Petroleum Institute (API):

API chapters | Title
3 | Tank Gauging.
7 | Temperature Determination.
8 | Sampling.
12 | Calculations.
17 | Marine Measurement.

Intertek USA, Inc. (Marion, AR) is accredited for the following laboratory analysis procedures and methods for petroleum and certain petroleum products set forth by the U.S. Customs and Border Protection Laboratory Methods (CBPL) and American Society for Testing and Materials (ASTM):

CBPL No. | ASTM | Title
27-04 | D95 | Standard Test Method for Water in Petroleum Products and Bituminous Materials by Distillation.
27-08 | D86 | Standard Test Method for Distillation of Petroleum Products at Atmospheric Pressure.
27-11 | D445 | Standard Test Method for Kinematic Viscosity of Transparent and Opaque Liquids (and Calculation of Dynamic Viscosity).
27-13 | D4294 | Standard Test Method for Sulfur in Petroleum and Petroleum Products by Energy-Dispersive X-ray Fluorescence Spectroscopy.
27-46 | D5002 | Standard Test Method for Density, Relative Density, and API Gravity of Crude Oils by Digital Density Analyzer.
27-48 | D4052 | Standard Test Method for Density, Relative Density, and API Gravity of Liquids by Digital Density Meter.
27-53 | D2709 | Standard Test Method for Water and Sediment in Middle Distillate Fuels by Centrifuge.
27-58 | D5191 | Standard Test Method For Vapor Pressure of Petroleum Products (Mini Method).

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to CBPGaugersLabs@cbp.dhs.gov. Please reference the website listed below for a complete listing of CBP approved gaugers and accredited laboratories.

http://www.cbp.gov/about/labs-scientific/commercial-gaugers-and-laboratories.

James D. Sweet,
Laboratory Director, Houston, Laboratories and Scientific Services.

[FR Doc. 2023-20686 Filed 9-22-23; 8:45 am]

BILLING CODE 9111-14-P